FEDERAL COMMUNICATIONS COMMISSION

47 CFR Part 90

[WT Docket No. 96-86; FCC 00-348 and FCC 01-10]

Development of Operational, Technical and Spectrum Requirements for Meeting Federal, State and Local Public Safety Agency Communications Requirements Through the Year 2010

AGENCY: Federal Communications Commission.

ACTION: Final rule; announcement of effective date.

SUMMARY: The Federal Communications Commission (Commission) announces that a certain rule adopted in its Public Safety 700 MHz Narrowband proceeding (WT Docket No. 96-86; FCC 00-348 and FCC 01-10) between 2000 and 2001, to the extent it contained an information collection requirement that required approval by the Office of Management and Budget (OMB) was approved, and became effective August 21, 2014, following approval by OMB.

DATES: The information collections in 47 CFR 90.525, 90.529, 90.531 published at 65 FR 66644, November 7, 2000 and 66 FR 10632, February 16, 2001, are effective October 28, 2014.

FOR FURTHER INFORMATION CONTACT: John Evanoff, Policy and Licensing Division, Public Safety and Homeland Security Bureau, at (202) 418-0848, or email: john.evanoff@fcc.gov.

SUPPLEMENTARY INFORMATION: This document announces that, on August 21, 2014, OMB approved, for a period of three years, the information collection requirements relating to licensing 700 MHz Public Safety Narrowband channels contained in the Commission's Third Memorandum Opinion and Order, FCC 00-348, published at 65 FR 66644, November 7, 2000 (re 47 CFR 90.529 and 90.531) and Fourth Report and Order, FCC 01-10, published at 66 FR 10632, February 16, 2001 (re 47 CFR 90.525). The OMB Control Number is 3060-1198. The Commission publishes this notice as an announcement of the effective date of the rules. If you have any comments on the burden estimates listed below, or how the Commission can improve the collections and reduce any burdens caused thereby, please contact Benish Shah, Federal Communications Commission, Room 1-A866, 445 12th Street SW., Washington, DC 20554. Please include the OMB Control Number, 3060-1198, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on August 21, 2014, for the information collection requirements contained in the modifications to the Commission's rules in 47 CFR part 90. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1198. The foregoing notice is required by the Paperwork Reduction Act of 1995, Public Law 104-13, October 1, 1995, and 44 U.S.C. 3507.

The total annual reporting burdens and costs for the respondents are as follows:

OMB Control Number: 3060-1198.

OMB Approval Date: August 21, 2014.

OMB Expiration Date: August 31, 2017.

Title: Administration of Interoperability Channels, State License, and Band Plan (47 CFR 90.525, 90.529, and 90.531).

Form Number: N/A. Respondents: State, local or tribal government, regional planning committees, and non-governmental entities.

Number of Respondents and Responses: 2155 respondents; 2155 responses.

Estimated Time per Response: 1 hour (range of 1 hour to 2 hours).

Frequency of Response: On occasion reporting and one-time reporting requirements; third party disclosure.

Obligation to Respond: Required to obtain or retain benefits (47 CFR 90.525, 90.529, 90.531).

Total Annual Burden: 2,212 hours.

Total Annual Cost: None.

Nature and Extent of Confidentiality: There is no need for confidentiality.

Privacy Act: No impact(s).

Needs and Uses: Section 90.525 of the Commission's rules requires approval of license applications for Interoperability channels in the 769-775 MHz and 799-805 MHz frequency bands by state-level agency or organization responsible for administering emergency communications. Section 90.529 of the Commission's rules provides that each state license will be granted subject to the condition that the state certifies on or before each applicable benchmark date that it is providing or prepared to provide “substantial service.” A licensee must demonstrate that it is providing or prepared to provide substantial service to one third of its geographic area or population by June 13, 2014 and two thirds by June 13, 2019. A licensee will be deemed to be prepared to provide substantial service if the licensee certifies that a radio system has been approved and funded for implementation by the deadline date. Substantial service refers to service which is sound, favorable, and substantially above a level of mediocre service which might minimally warrant renewal. If a state licensee fails to meet any condition of the grant the state license is modified automatically to the frequencies and geographic areas where the state certifies that it is providing substantial service. Any recovered state license spectrum will revert to General Use. However, spectrum licensed to a state under a state license remains unavailable for reassignment to other applicants until the Commission's database reflects the parameters of the modified state license. The Commission seeks information including the kind of public safety service that the licensee is providing with the system; which state channels are in use in the system; whether the licensee's has made its showing based on territory or population served; the percentage of territory/population served by the system footprint; and what signal level is being used to determine the system footprint. Section 90.531 of the Commission's rules sets forth the band plan for the 763-775 MHz and 793-805 MHz public safety bands. This section covers channel designations for base and mobile use, narrowband segments, combined channels, channel pairing, internal guard band, and broadband. Narrowband general use channels and low power channels require regional planning committee concurrence.

Commission staff will use the information to assign licenses for interoperability and General Use channels, as well as renewal of State licenses. The information will also be used to determine whether prospective licensees operate in compliance with the Commission's rules. Without such information, the Commission could not accommodate State interoperability or regional planning requirements or provide for the efficient use of State frequencies. This information collection includes rules to govern the operation and licensing of 700 MHz band systems to ensure that licensees continue to fulfill their statutory responsibilities in accordance with the Communications Act of 1934, as amended. Such information will continue to be used to verify that applicants are legally and technically qualified to hold licenses, and to determine compliance with Commission rules.

Federal Communications Commission.
Marlene H. Dortch,
Secretary.

[FR Doc. 2014-25650 Filed 10-27-14; 8:45 am]

BILLING CODE 6712-01-P